NATIONAL SCIENCE FOUNDATION

Agency Information Collection Activities: Comment Request

AGENCY: National Science Foundation.

ACTION: Submission for OMB review; comment request.

SUMMARY: Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 66 FR 57113 and no comments were received. NSF is forwarding the proposed submission to the Office of Management and Budget (OMB) for clearance simultaneously with the publication of this second notice.

DATES: Comments regarding this information collections are best assured of having their full effect if received by OMB within 30 days of publication in the Federal Register.

ADDRESSES: Written comments regarding (a) whether the collection of information is necessary for the proper performance of the functions of NSF, including whether the information will have practical utility; (b) the accuracy of NSF's estimate of burden including the validity of the methodology and assumptions used; (c) ways to enhance the quality, utility and clarity of the information to be collected; or (d) ways to minimize the burden of the collection of ifnromation on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send e-mail to splimpto@nsf.gov. Copies of the submission may be obtained by calling (703) 292-7556.

FOR FURTHER INFORMATION CONTACT: Suzanne H. Plimpton, NSF Reports Clearance Officer at (703) 292-7556 or send e-mail to splimpto@nsf.gov.

An agency may not conduct or sponsor a collection of information unless the collection of information displays a currently valid OMB control number and the agency informs potential persons who are to respond to the collection of information that such persons are not required to respond to the collection of information unless it displays a currently valid OMB control number.

SUPPLEMENTARY INFORMATION: Title of Collection: The National Science Foundation's Graduate Research Traineeship Program's Follow Up Study.

OMB Control No.: 3145-NEW.

Abstract: This document has been prepared to support the clearance of data collection instruments to be used in the follow up study of the National Science Foundation's (NSF) Graduate Research Traineeship (GRT) Program. GRT supported graduate students in peer-review selected institutions to achieve a doctorate (PhD) in critical or emerging areas of science, mathematics, and engineering. The study addresses the following questions: What positions do graduates obtain following completion of the doctorate? What academic awards or private/public sector attainments do graduates receive? What impacts do traineeships have on the sponsoring institution, faculty, and colleagues? How do GRT trainees who stopped their pursuit of a PhD characterize their GRT experience? Is there a relationship between the average time of GRT funding support for a trainee and the average number of years required for completing a PhD? Despite not completing the doctorate, did former GRT recipients find the traineeship relevant to their subsequent employment or study related to science and technology needs in priority fields? What is the overall “value added” of traineeships?

The data to address these questions will be gathered via two survey instruments. The first instrument is an Institutional Impact Survey that GRT project Principal Investigators (PI) will complete 2 years after their final year of funding. The second instrument is an individual survey that all trainees who have received doctorates or withdrawn from the GRT program will be asked to complete.

2. Expected Respondents: The expected respondents are the Principal Investigators and GRT funding recipients (trainees) from GRT projects funded by NSF since 1993.

3. Burden on the Public: The total annual burden hours for this collection are 290 for a maximum of 373 respondents, assuming an 80-100% response rate. The average annual reporting burden is one hour or less per respondent. The burden on the public is limited because the study is limited to GRT project participants and no other individuals.

Dated: May 8, 2002.
Suzanne H. Plimpton,
Reports Clearance Officer, National Science Foundation.

[FR Doc. 02-11912 Filed 5-10-02; 8:45 am]

BILLING CODE 7555-01-M